DEPARTMENT OF ENERGY

Federal Energy Regulatory Commission

Combined Notice of Filings #1

Take notice that the Commission received the following exempt wholesale generator filings:

Docket Numbers: EG24-219-000.

Applicants: Cross Town Energy Storage, LLC.

Description: Cross Town Energy Storage LLC submits Notice of Self-Certification of Exempt Wholesale Generator Status.

Filed Date: 7/8/24.

Accession Number: 20240708-5044.

Comment Date: 5 p.m. ET 7/29/24.

Docket Numbers: EG24-220-000.

Applicants: Cranberry Point Energy Storage, LLC.

Description: Cranberry Point Energy Storage, LLC submits Notice of Self-Certification of Exempt Wholesale Generator Status.

Filed Date: 7/8/24.

Accession Number: 20240708-5049.

Comment Date: 5 p.m. ET 7/29/24.

Docket Numbers: EG24-221-000.

Applicants: Morrow Lake Solar, LLC.

Description: Morrow Lake Solar, LLC submits Notice of Self-Certification of Exempt Wholesale Generator Status.

Filed Date: 7/8/24.

Accession Number: 20240708-5076.

Comment Date: 5 p.m. ET 7/29/24.

Take notice that the Commission received the following electric rate filings:

Docket Numbers: ER23-2511-001; ER19-1597-006; ER20-902-003; ER20-1620-004; ER22-414-004; ER23-2346-002; ER23-2448-002; ER23-495-005.

Applicants: AES CE Solutions, LLC, Tunica Windpower LLC, Oak Ridge Solar, LLC, AES Marketing and Trading, LLC, AES Solutions Management, LLC, sPower Energy Marketing, AES Integrated Energy, LLC, Hardy Hills Solar Energy LLC.

Description: Triennial Market Power Analysis for Central Region of Hardy Hills Solar Energy LLC et. al.

Filed Date: 6/28/24.

Accession Number: 20240628-5407.

Comment Date: 5 p.m. ET 8/27/24.

Docket Numbers: ER24-1179-002.

Applicants: Midcontinent Independent System Operator, Inc.

Description: Compliance filing: 2024-07-08_Att X, Appendix 6—Inverter Based Resources Compliance to be effective 4/2/2024.

Filed Date: 7/8/24.

Accession Number: 20240708-5090.

Comment Date: 5 p.m. ET 7/29/24.

Docket Numbers: ER24-1306-002.

Applicants: Windy Flats Partners, LLC.

Description: Tariff Amendment: Windy Flats Filing to be effective 4/22/2024.

Filed Date: 7/8/24.

Accession Number: 20240708-5095.

Comment Date: 5 p.m. ET 7/29/24.

Docket Numbers: ER24-2473-000.

Applicants: SunZia Transmission, LLC.

Description: 205(d) Rate Filing: OATT Revisions—Firm & Non-Firm P-to-P Trans. Rates & Interconnect Procedures to be effective 9/4/2024.

Filed Date: 7/8/24.

Accession Number: 20240708-5043.

Comment Date: 5 p.m. ET 7/29/24.

Docket Numbers: ER24-2474-000.

Applicants: PJM Interconnection, L.L.C.

Description: 205(d) Rate Filing: Amendment to ISA, SA No. 5687; Queue No. AF1-188 to be effective 9/7/2024.

Filed Date: 7/8/24.

Accession Number: 20240708-5070.

Comment Date: 5 p.m. ET 7/29/24.

Docket Numbers: ER24-2475-000.

Applicants: PJM Interconnection, L.L.C.

Description: 205(d) Rate Filing: Original WMPA; Service Agreement No. 7299; AF2-295 to be effective 6/6/2024.

Filed Date: 7/8/24.

Accession Number: 20240708-5082.

Comment Date: 5 p.m. ET 7/29/24.

Docket Numbers: ER24-2476-000.

Applicants: Terra-Gen VG Wind, LLC.

Description: Tariff Amendment: Notice of Cancellation to be effective 7/9/2024.

Filed Date: 7/8/24.

Accession Number: 20240708-5086.

Comment Date: 5 p.m. ET 7/29/24.

Take notice that the Commission received the following electric securities filings:

Docket Numbers: ES24-42-000.

Applicants: Duquesne Light Company.

Description: Application Under Section 204 of the Federal Power Act for Authorization to Issue Securities of Duquesne Light Company.

Filed Date: 7/3/24.

Accession Number: 20240703-0004.

Comment Date: 5 p.m. ET 7/24/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 8, 2024.
Debbie-Anne A. Reese,
Acting Secretary.

[FR Doc. 2024-15360 Filed 7-11-24; 8:45 am]

BILLING CODE 6717-01-P